DEPARTMENT OF HEALTH AND HUMAN SERVICES

Food and Drug Administration

Cooperative Arrangement Between the United States Departments of Health and Human Services and Agriculture and the Secretariats of Health and Agriculture, Livestock, Rural Development, Fish, and Food of the United Mexican States Regarding Cooperative Activities to Enhance the Safety of Food for Human Consumption

AGENCY: Food and Drug Administration, HHS.

ACTION: Notice.

SUMMARY: The Food and Drug Administration (FDA) is providing notice of a cooperative arrangement between the Department of Health and Human Services and the Department of Agriculture of the United States of America and the Secretariat of Health and the Secretariat of Agriculture, Livestock, Rural Development, Fish, and Food of the United Mexican States. The purpose of this arrangement is to strengthen existing scientific and public health protection cooperative activities related to the regulation of the safety of food to achieve a reduction in the incidence of foodborne illnesses in both countries.

DATES: The arrangement became effective September 4, 2001.

FOR FURTHER INFORMATION CONTACT: Camille Brewer, International Activities Coordinator for Food, Center for Food Safety and Applied Nutrition (HFS-032), Food and Drug Administration, 200 C St. SW., Washington, DC 20204, 202-260-2314. (After December 14, 2001, the Center for Food Safety and Applied Nutrition's address will be 5100 Paint Branch Pkwy., College Park, MD 20740.)

SUPPLEMENTARY INFORMATION: This cooperative arrangement is being published in accordance with 21 CFR 20.108(c) which states that all written agreements and memoranda of understanding between FDA and others shall be published in the Federal Register.

Dated: December 13, 2001.
Margaret M. Dotzel,
Associate Commissioner for Policy.

The arrangement is set forth in its entirety as follows:

BILLING CODE 4160-01-S

[FR Doc. 01-31576 Filed 12-21-01; 8:45 am]

BILLING CODE 4160-01-C